FEDERAL MARITIME COMMISSION

Ocean Transportation Intermediary License Applicants

Notice is hereby given that the following applicants have filed with the Federal Maritime Commission an application for license as a Non-Vessel-Operating Common Carrier and Ocean Freight Forwarder-Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier Ocean Transportation Intermediary Applicants

CNF International, Inc., 550 E. Carson Plaza Drive, #112, Carson, CA 90746. Officers:Paul Wang Lee, President (Qualifying Individual), Mi Ran Lee, Secretary.

Evangel Shipping, Inc., 10408 Daines Drive, Temple City, CA 91780. Officer:Xiujuan Lai, CEO (Qualifying Individual).

Champ International Shipping, Inc., 900 Kaighns Avenue, Camden, NJ 08104. Officer:Roy Barrington Hibbert, President (Qualifying Individual).

Cargois Inc., 2700 Coyle Avenue, Elk Grove Village, IL 60007. Officers:Souck-Sin Lee, Treasurer (Qualifying Individual), Jong Han Kwon, President.

Best Shipping Ever, Inc., 734 Grand Avenue, Unit C, Ridgefield, NJ 07657. Officer:Young S. Kim, President, (Qualifying Individual).

Golden Sea USA Inc., 155-06 So. Conduit Ave., Suite 200, Jamaica, NY 11434. Officers:Zhang, Shen, Vice President, (Qualifying Individual), Xia Fang, President.

Dyna Logistics Inc., 2415 S. Sequoia Drive, Compton, CA 90220. Officers:Alfie Chi-Yang, Director (Qualifying Individual), Michelle Yang, Director/Secretary.

Siboney Shipping LLC, 10943 NW 122 Street, Medley, FL 33178. Officer:Kaye Graham, Owner (Qualifying Individual).

Non-Vessel-Operating Common Carrier and Ocean Freight Forwarder Transportation Intermediary Applicants

AHC Logistics Cargo Consultant, Inc., 11591 NW 50th Terrace, Doral, FL 33178. Officers:Alberto Jose Hernandez Crassus, President (Qualifying Individual), Amy Aracely Vega, Vice President.

Express International Cargo, Corp., dba Express Ocean Services, 7220 NW 36 Street, Suite 300, Miami, FL 33166. Officer:Carlos Adolfo Marzol, President (Qualifying Individual).

Salviati and Santori Enterprises Inc., 10 East Merrick Road, Suite 200, Valley Stream, NY 11580, Officers:Richard Cazan-Cassini, Exec. Vice Pres. (Qualifying Individual), Francesco Santori, President.

IPPCO Global Services, Inc., 14589 Industry Circle, La Mirada, CA 90637. Officers:John W. Gample, III, Secretary (Qualifying Individual), Dina T. Gample, President.

Advanced Maritime Transports, Inc. dba AMT, 16800 Greenspoint Park Drive, Suite 170N, Houston, TX 77030. Officers:William E. Netzinger, III, President (Qualifying Individual), Alain Vedrines, Director.

Dated: June 1, 2007.
Bryant L. VanBrakle,
Secretary.

[FR Doc. E7-10899 Filed 6-5-07; 8:45 am]

BILLING CODE 6730-01-P